ENVIRONMENTAL PROTECTION AGENCY

[FRL-7380-1]

Gulf of Mexico Program Management Committee Meeting

AGENCY: Environmental Protection Agency ( EPA).

ACTION: Notice of meeting.

SUMMARY: Under the Federal Advisory Committee Act (Public Law 92-463), EPA gives notice of a meeting of the Gulf of Mexico Program (GMP) Management Committee (MC).

DATES: The meeting will be held on Tuesday, October 8, 2002, from 1 p.m. to 5 p.m., and on Wednesday, October 9, 2002, from 8 a.m. to 12 p.m.

ADDRESSES: The meeting will be held at the Doubletree Hotel, 300 Canal Street, New Orleans, Louisiana. (1-888-874-9074).

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda is attached.

The meeting is open to the public.

Dated: September 11, 2002.
Gloria D. Car,
Designated Federal Officer.

Gulf of Mexico Program

Management Committee Meeting, October 8-9, 2002, Doubletree Hotel, 16th Floor—International Ballroom, New Orleans, Louisiana

Agenda

Tuesday, October 8

1:00 Welcome and Introductions (Bruce Moulton/Jane Watson)

1:10 State Executive Session Report Out (Bruce Moulton)

Purpose: Provide update on State discussions.

Decision: Informational.

1:30 Executive Order (Bryon Griffith)

Purpose: Review and discussion of final draft. Discuss next steps.

Decision: Endorsement of recommendations and consensus to forward to Policy Review Board for finalization. Agreement on next steps.

2:30 Alabama Pilot Mini-Strategic Assessment Presentation (John Carlton)

Purpose: Review and evaluation of Mini-Strategic Assessment Process as a follow-up to Ad Hoc Committee Recommendations

Decision: Endorsement of Process.

3:15 Break

3:30 Mercury Project Team Workplan (Fred Kopfler)

Purpose: Review draft workplan

Decision: Endorsement of workplan and consensus to proceed with Team Charge.

4:00 Project Team Charge for Nutrient Pilot Study (Larinda Tervelt)

Purpose: Project Team Identification

Decision: Endorsement of Charge and Team

4:30 Gulf Hypoxia: Lower Mississippi River Sub-basin Committee Development (Larinda Tervelt)

Purpose: Review status of Committee formation and next steps.

Decision: Informational.

5:00 Adjourn for Social—Dinner on your own.

Wednesday, October 9

7:30-8:00 Continental Breakfast

8:00 Federal Executive Session Report Out (Bryon Griffith)

Purpose: Provide update on Federal agency discussions.

Decision: Informational

8:30 Ad Hoc Recommendation on Focus Teams (Bryon Griffith)

Purpose: Review presentation at June Comprehensive Meeting and final concept of transitioning Focus Teams to Project Teams

Decision: Endorsement of GMPO Recommendation

9:00 FY2004 Workplan Development Status (Gloria Car)

Purpose: Provide update.

Decision: Informational.

9:30 Coastal America Report (Bob Bosenberg)

Purpose: Report on Coastal America activities and projects

Decision: Informational

10:00 Break

10:15 CAC Report (Robert Crowe/Casi Calloway)

Purpose: Report on CAC activities and key projects.

Decision: Informational.

10:45 Follow-up: Critical Scientific Research Needs Assessment

Purpose: Final Document to be published

Decision: Informational

10:50 Emerging Opportunities/Issues—Director's Report (Bryon Griffith)

Purpose: Review Program Activities

Decision: Informational

11:15 Management Committee Roundrobin

Purpose: Member Highlights

Decision: Informational

11:45 Review Action Items; Set next meeting date

12:00 Adjourn

[FR Doc. 02-23806 Filed 9-18-02; 8:45 am]

BILLING CODE 6560-50-P